DEPARTMENT OF STATE

[Public Notice: 11863]

Regional Meeting of the Binational Bridges and Border Crossings Group in San Luis, Arizona

ACTION: Notice of a meeting.

SUMMARY: Delegates from the United States and Mexican governments, the states of California and Arizona, and the Mexican states of Baja California and Sonora will participate in a regional meeting of the U.S.-Mexico Binational Bridges and Border Crossings Group on Thursday, October 27, 2022 in San Luis, Arizona. The purpose of this meeting is to discuss operational matters involving existing and proposed international bridges and border crossings and their related infrastructure and to exchange technical information as well as views on policy. This meeting will include a public session on Thursday, October 27, 2022 from 8:30 a.m. until 11:30 a.m. This session will allow proponents of proposed bridges and border crossings and related projects to make presentations to the delegations and members of the public.

DATES: October 27, 2022.

SUPPLEMENTARY INFORMATION: For further information on the meeting and to attend the public session, please contact the Office of Mexican Affairs' Border Affairs Unit via email at WHABorderAffairs@state.gov, by phone at 202-647-9894, or by mail at Office of Mexican Affairs—Room 3924, Department of State, 2201 C St. NW, Washington, DC 20520.

Hillary Quam,
Border Coordinator, Office of Mexican Affairs, Department of State.

[FR Doc. 2022-20385 Filed 9-20-22; 8:45 am]

BILLING CODE 4710-29-P